DEPARTMENT OF COMMERCE

International Trade Administration

[A-549-820]

Prestressed Concrete Steel Wire Strand From Thailand: Final Results of Antidumping Duty Administrative Review; 2015

AGENCY: Enforcement and Compliance, International Trade Administration, Department of Commerce.

SUMMARY: The Department of Commerce (Department) has completed its administrative review of the antidumping duty order on prestressed concrete steel wire strand (PC strand) from Thailand. The review covers one producer/exporter of the subject merchandise, The Siam Industrial Wire Co., Ltd. (SIW). The period of review (POR) is January 1, 2015, through December 31, 2015. We continue to find that SIW did not make sales of subject merchandise at prices below normal value.

DATES: Effective June 1, 2017.

FOR FURTHER INFORMATION CONTACT: Sergio Balbontin, AD/CVD Operations, Office VIII, Enforcement and Compliance, International Trade Administration, U.S. Department of Commerce, 1401 Constitution Avenue NW., Washington, DC 20230; telephone (202) 482-6478.

SUPPLEMENTARY INFORMATION:

Background

On February 3, 2017, the Department published the Preliminary Results in the Federal Register.¹ From February 15 through February 24, 2017, and March 21 through March 23, 2017, we verified SIW's cost and sales questionnaire responses.² We invited interested parties to comment on the Preliminary Results (inclusive of verification findings). However, no interested party submitted comments or requested a hearing. For the final results, we made certain changes to our preliminary margin calculations based on verification findings.³ The Department conducted this administrative review in accordance with section 751(a) of the Tariff Act of 1930, as amended (Act).

¹ See Prestressed Concrete Steel Wire Strand from Thailand: Preliminary Results of Antidumping Duty Administrative Review; 2015, 82 FR 9197 (February 3, 2017) and accompanying Decision Memorandum (Preliminary Results).

² See Memoranda, “Verification of the Cost Response of The Siam Industrial Wire Co., Ltd. in the Antidumping Duty Administrative Review of Prestressed Concrete Steel Wire Strand from Thailand,” dated April 10, 2017, and “Verification of the Sales Response of the Siam Industrial Wire Co., Ltd. in the Antidumping Duty Administrative Review of Prestressed Concrete Steel Wire Strand from Thailand,” dated April 17, 2017.

³ See Memorandum, “Final Results Calculation Memorandum for The Siam Industrial Wire Co., Ltd.,” concurrently dated with this notice (Final Results Calculation Memorandum).

Scope of the Order ⁴

⁴ See Notice of Amended Final Determination of Sales at Less Than Fair Value and Antidumping Duty Order: Prestressed Concrete Steel Wire Strand from Thailand, 69 FR 4111 (January 28, 2004) (Order).

The merchandise covered by the Order is PC strand from Thailand. The product is currently classified under subheadings 7312.10.3010 and 7312.10.3012 of the Harmonized Tariff System of the United States (HTSUS). Although the HTSUS subheadings are provided for convenience and customs purposes, the written description of merchandise subject to the scope is dispositive.⁵

⁵ For a complete description of the scope of the Order, see the Preliminary Decision Memorandum which can be accessed directly at http://enforcement.trade.gov/frn/.

Changes Since the Preliminary Results

We made certain changes to the preliminary margin calculations based on verification findings. As no parties commented on the Preliminary Results, an Issues and Decision Memorandum has not been prepared. Instead, the changes to the margin calculation are detailed in the Final Results Calculation Memorandum.

Final Results of Review

As a result of this review, the Department determines that the following weighted-average dumping margin exists for entries of subject merchandise that were produced and/or exported by the following company during the POR:

Manufacturer/exporter | Weighted- average margin (percent)
The Siam Industrial Wire Co., Ltd | 0.00

Assessment Rates

The Department shall determine, and U.S. Customs and Border Protection (CBP) shall assess, antidumping duties on all appropriate entries of subject merchandise in accordance with the final results of this review, pursuant to section 751(a)(2)(C) of the Act and 19 CFR 351.212(b). Because we calculated a zero margin for SIW in the final results of this review, we intend to instruct CBP to liquidate the appropriate entries without regard to antidumping duties.

We intend to issue instructions to CBP 15 days after the date of publication of the final results of this review.

Cash Deposit Requirements

The following deposit requirements will be effective upon publication of the notice of these final results for all shipments of PC strand from Thailand entered, or withdrawn from warehouse, for consumption on or after the publication date as provided by section 751(a)(2) of the Act: (1) The cash deposit rate for SIW will be zero; (2) for merchandise exported by manufacturers or exporters not covered in this review but covered in a completed prior segment of the proceeding, the cash deposit rate will continue to be the company-specific rate published for the most recently completed segment; (3) if the exporter is not a firm covered in this review, a prior review, or the original investigation but the manufacturer is, the cash deposit rate will be the rate established for the most recently completed segment for the manufacturer of the merchandise; (4) the cash deposit rate for all other manufacturers or exporters will continue to be 12.91 percent, the all-others rate established in the Order. These cash deposit requirements, when imposed, shall remain in effect until further notice.

Notification to Importers

This notice also serves as a final reminder to importers of their responsibility under 19 CFR 351.402(f)(2) to file a certificate regarding the reimbursement of antidumping duties prior to liquidation of the relevant entries during this POR. Failure to comply with this requirement could result in the Department's presumption that reimbursement of antidumping duties has occurred and the subsequent assessment of double antidumping duties.

Administrative Protective Order

In accordance with 19 CFR 351.305(a)(3), this notice also serves as a reminder to parties subject to administrative protective order (APO) of their responsibility concerning the return or destruction of proprietary information disclosed under the APO, which continues to govern business proprietary information in this segment of the proceeding. Timely written notification of the return or destruction of APO materials or conversion to judicial protective order is hereby requested. Failure to comply with the regulations and terms of an APO is a violation subject to sanction.

Notification to Interested Parties

We intend to issue and publish these results in accordance with sections 751(a)(1) and 777(i)(1) of the Act and 19 CFR 351.213(h) and 351.221(b)(5).

Dated: May 24, 2017.
Ronald K. Lorentzen,
Acting Assistant Secretary for Enforcement and Compliance.

[FR Doc. 2017-11322 Filed 5-31-17; 8:45 am]

BILLING CODE 3510-DS-P